DEPARTMENT OF THE TREASURY

Office of Foreign Assets Control

Designation of 2 Individuals and 2 Entities Pursuant to Executive Order 13224 of September 23, 2001, “Blocking Property and Prohibiting Transactions With Persons Who Commit, Threaten To Commit, or Support Terrorism”

AGENCY: Office of Foreign Assets Control, Treasury.

ACTION: Notice.

SUMMARY: The Treasury Department's Office of Foreign Assets Control (“OFAC”) is publishing the names of 2 individuals and 2 entities whose property and interests in property are blocked pursuant to Executive Order 13224 of September 23, 2001, “Blocking Property and Prohibiting Transactions With Persons Who Commit, Threaten To Commit, or Support Terrorism.”

DATES: The designations by the Director of OFAC of the 2 individuals and 2 entities in this notice, pursuant to Executive Order 13224, are effective on June 29, 2012.

FOR FURTHER INFORMATION CONTACT: Assistant Director, Compliance Outreach & Implementation, Office of Foreign Assets Control, Department of the Treasury, Washington, DC 20220, tel.: 202/622-2490.

SUPPLEMENTARY INFORMATION:

Electronic and Facsimile Availability

This document and additional information concerning OFAC are available from OFAC's Web site (www.treas.gov/ofac) or via facsimile through a 24-hour fax-on-demand service, tel.: 202/622-0077.

Background

On September 23, 2001, the President issued Executive Order 13224 (the “Order”) pursuant to the International Emergency Economic Powers Act, 50 U.S.C. 1701-1706, and the United Nations Participation Act of 1945, 22 U.S.C. 287c. In the Order, the President declared a national emergency to address grave acts of terrorism and threats of terrorism committed by foreign terrorists, including the September 11, 2001 terrorist attacks in New York, Pennsylvania, and at the Pentagon. The Order imposes economic sanctions on persons who have committed, pose a significant risk of committing, or support acts of terrorism. The President identified in the Annex to the Order, as amended by Executive Order 13268 of July 2, 2002, 13 individuals and 16 entities as subject to the economic sanctions. The Order was further amended by Executive Order 13284 of January 23, 2003, to reflect the creation of the Department of Homeland Security.

Section 1 of the Order blocks, with certain exceptions, all property and interests in property that are in or hereafter come within the United States or the possession or control of United States persons, of: (1) Foreign persons listed in the Annex to the Order; (2) foreign persons determined by the Secretary of State, in consultation with the Secretary of the Treasury, the Secretary of the Department of Homeland Security and the Attorney General, to have committed, or to pose a significant risk of committing, acts of terrorism that threaten the security of U.S. nationals or the national security, foreign policy, or economy of the United States; (3) persons determined by the Director of OFAC, in consultation with the Departments of State, Homeland Security and Justice, to be owned or controlled by, or to act for or on behalf of those persons listed in the Annex to the Order or those persons determined to be subject to subsection 1(b), 1(c), or 1(d)(i) of the Order; and (4) except as provided in section 5 of the Order and after such consultation, if any, with foreign authorities as the Secretary of State, in consultation with the Secretary of the Treasury, the Secretary of the Department of Homeland Security and the Attorney General, deems appropriate in the exercise of his discretion, persons determined by the Director of OFAC, in consultation with the Departments of State, Homeland Security and Justice, to assist in, sponsor, or provide financial, material, or technological support for, or financial or other services to or in support of, such acts of terrorism or those persons listed in the Annex to the Order or determined to be subject to the Order or to be otherwise associated with those persons listed in the Annex to the Order or those persons determined to be subject to subsection 1(b), 1(c), or 1(d)(i) of the Order.

On June 29, 2012 the Director of OFAC, in consultation with the Departments of State, Homeland Security, Justice and other relevant agencies, designated, pursuant to one or more of the criteria set forth in subsections 1(b), 1(c) or 1(d) of the Order, 2 individual(s) and 2 entit(ies) whose property and interests in property are blocked pursuant to Executive Order 13224.

The listings for these individuals and entities on OFAC's list of Specially Designated Nationals and Blocked Persons appear as follows:

Individuals

1. BARAKZAI, Haji Abdul Sattar (a.k.a. ABDULASATTAR; a.k.a. BARAKZAI, Haji Satar; a.k.a. MANAN, Haji Abdul Satar Haji Abdul; a.k.a. SATAR, Haji Abdul), Kachray Road, Pashtunabad, Quetta, Balochistan Province, Pakistan; Nasrullah Khan Chowk, Pashtunabad Area, Balochistan Province, Pakistan; Chaman, Balochistan Province, Pakistan; Abdul Satar Food Shop, Eno Mina 0093, Kandahar, Afghanistan; DOB 1964; POB Mirmandaw Village, Nahr-e Saraj District, Helmand Province, Afghanistan; alt. POB Qilla Abdullah, Pakistan; alt. POB Mirmadaw Village, Gereshk District, Helmand Province, Afghanistan; Passport AM5421691 (Pakistan) expires 11 Aug 2013; National ID No. 5420250161699 (Pakistan); alt. National ID No. 585629 (Afghanistan) (individual) [SDGT] Linked To: HAJI KHAIRULLAH HAJI SATTAR MONEY EXCHANGE; Linked To: TALIBAN.

2. BARAKZAI, Haji Khairullah (a.k.a. KARIMULLAH, Haji; a.k.a. KHAIRULLAH, Haji; a.k.a. KHEIRULLAH, Haji; a.k.a. KHERULLAH, Haji; a.k.a. MOHAMMAD, Hajji Khair; a.k.a. ULLAH, Haji Khair), Abdul Manan Chowk, Pashtunabad, Quetta, Pakistan; DOB 1965; POB Zumbaleh Village, Nahr-e Saraj District, Helmand Province, Afghanistan; alt. POB Qal'ah Abdulla, Pakistan; alt. POB Mirmadaw Village, Gereshk District, Helmand Province, Afghanistan; Passport BP4199631 (Pakistan) expires 25 Jun 2014; National ID No. 5440005229635 (Pakistan) (individual) [SDGT] Linked To: TALIBAN; Linked To: HAJI KHAIRULLAH HAJI SATTAR MONEY EXCHANGE.

Entities

1. ROSHAN MONEY EXCHANGE (a.k.a. AHMAD SHAH HAWALA; a.k.a. HAJI AHMAD SHAH HAWALA; a.k.a. MAULAWI AHMED SHAH HAWALA; a.k.a. MULLAH AHMED SHAH HAWALA; a.k.a. ROSHAN SARAFI; a.k.a. ROSHAN SHIRKAT; a.k.a. ROSHAN TRADING COMPANY; a.k.a. RUSHAAN TRADING COMPANY), Fahr Khan (variant Furqan) Center, Shop Number 1584, Chalhor Mal Road, Quetta, Balochistan Province, Pakistan; St. Flore, Flat Number 4, Furqan Center, Jamaludden (variant Jamaludin) Afghani Road, Quetta, Balochistan Province, Pakistan; Muslim Plaza Building, Doctor Banu Road, 2nd Floor, Office Number 4, Quetta, Balochistan Province, Pakistan; Cholmon Road, Quetta, Balochistan Province, Pakistan; Munsafi Road, Quetta, Balochistan Province, Pakistan; Abdul Samad Khan Street, Next to Fathma Jena Road, Kadari Place, 1st Floor, Shop Number 1, Quetta, Balochistan Province, Pakistan; Safar Bazaar, Garm Ser District, Helmand Province, Afghanistan; Main Bazaar, Safar, Helmand Province, Afghanistan; Money Exchange Market, Lashkar Gah, Helmand Province, Afghanistan; Haji Ghulam Nabi Market, Lashkar Gah, Helmand Province, Afghanistan; Lashkar Gah Bazaar, Helmand Province, Afghanistan; Hazar Joft, Garmser District, Helmand Province, Afghanistan; Ismat Bazaar, Marjah District, Helmand Province, Afghanistan; Zaranj, Nimruz Province, Afghanistan; Suite 8, 4th Floor, Sarrafi Market, District 1, Kandahar City, Kandahar Province, Afghanistan; Floor 5, Shop 25, Kandahar City Sarafi Market, Kandahar District, Kandahar Province, Afghanistan; Lakri, Helmand Province, Afghanistan; Aziz Market, In front of Azizi Bank, Waish Border, Spin Boldak District, Kandahar Province, Afghanistan; Gardi Jungle, Balochistan Province, Pakistan; Chaghi, Balochistan Province, Pakistan [SDGT] Linked To: TALIBAN.

2. HAJI KHAIRULLAH HAJI SATTAR MONEY EXCHANGE (a.k.a. HAJI ALIM HAWALA; a.k.a. HAJI HAKIM HAWALA; a.k.a. HAJI KHAIR ULLAH MONEY SERVICE; a.k.a. HAJI KHAIRULLAH AND ABDUL SATTAR AND COMPANY; a.k.a. HAJI KHAIRULLAH MONEY EXCHANGE; a.k.a. HAJI KHAIRULLAH-HAJI SATTAR SARAFI; a.k.a. HAJI SALAM HAWALA), Chohar Mir Road, Qandahari Bazaar, Quetta, Balochistan Province, Pakistan; Room Number 1, Abdul Sattar Plaza, Hafiz Saleem Street, Munsafi Road, Quetta, Balochistan Province, Pakistan; Shop Number 3, Dr. Bano Road, Quetta, Pakistan; Office Number 3, Dr. Bano Road, Near Fatima Jinnah Road, Quetta, Pakistan; Kachara Road, Naserullah Khan Chawk, Quetta, Pakistan; Wazir Mohammad Road, Quetta, Balochistan Province, Pakistan; Peshawar, Khyber Paktunkhwa Province, Pakistan; Moishah Chowk Road, Lahore, Punjab Province, Pakistan; Karachi, Sindh Province, Pakistan; 2 Larran Road, Chaman, Balochistan Province, Pakistan; Chaman Central Bazaar, Chaman, Balochistan Province, Pakistan; Shah Zada Market, Shop Number 237, Kabul, Afghanistan; Sarai Shahzada, 3rd Floor, Shop Number 257, Kabul, Afghanistan; Sharai Shahzada Market, Kabul, Afghanistan; Kandahar City Sarafi Market, 2nd Floor, Shop 21 and 22, Kandahar City, Kandahar Province, Afghanistan; New Sarafi Market, 2nd Floor, Kandahar City, Kandahar Province, Afghanistan; Safi Market, Kandahar City, Kandahar Province, Afghanistan; Gereshk City, Nahr-e Saraj District, Helmand Province, Afghanistan; Lashkar Gah Bazaar, Lashkar Gah, Lashkar Gah District, Helmand Province, Afghanistan; Haji Ghulam Nabi Market, 2nd Floor, Lashkar Gah District, Helmand Province, Afghanistan; Khorasan Market, 3rd Floor, Suite Number 196-197, Herat, Afghanistan; Shahre Naw, District 5, Khorasan Market, Herat, Afghanistan; Sarafi Market, Zaranj District, Nimroz Province, Afghanistan; Ansari Market, 2nd Floor, Nimroz, Afghanistan; Sarafi Market, Wesh, Afghanistan; Wesh, Spin Boldak District, Kandahar Province, Afghanistan; Sarafi Market, Farah, Afghanistan; Dubai, United Arab Emirates; Zahedan, Iran; Zabul, Iran; Tax ID No. 1774308 (Pakistan); alt. Tax ID No. 0980338 (Pakistan); alt. Tax ID No. 3187777 (Pakistan); Afghan Money Service Provider License Number 044 (Afghanistan) [SDGT] Linked To: TALIBAN.

Dated: June 29, 2012.
Adam J. Szubin,
Director, Office of Foreign Assets Control.

[FR Doc. 2012-16855 Filed 7-12-12; 8:45 am]

BILLING CODE 4810-AL-P